DEPARTMENT OF TRANSPORTATION

Federal Aviation Administration

14 CFR Part 71

[Docket No. FAA-2008-0940; Airspace Docket No. 08-AAL-25]

Proposed Removal and Modification of VOR Federal Airways; Alaska

AGENCY: Federal Aviation Administration (FAA), DOT.

ACTION: Notice of proposed rulemaking (NPRM).

SUMMARY: This action proposes to remove Federal Airway V-328, and modify three Federal Airways, V-319, V-333 and V-480, in Alaska. The FAA is proposing this action in preparation of the eventual decommissioning from the National Airspace System (NAS) of the Kipnuk, Very High Ommi-directional Range (VOR), Kipnuk, AK.

DATES: Comments must be received on or before January 26, 2009.

ADDRESSES: Send comments on the proposal to the U.S. Department of Transportation, Docket Operations, M-30, 1200 New Jersey Avenue, SE., West Building Ground Floor, Room W12-140, Washington, DC 20590-0001. You must identify the docket number FAA-2008-0940 and Airspace Docket No. 08-AAL-25, at the beginning of your comments. You may also submit comments on the Internet at http://www.regulations.gov.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA-2008-0940 and Airspace Docket No. 08-AAL-25) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to Docket No. FAA-2008-0940 and Airspace Docket No. 08-AAL-25.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/airports_airtraffic/air_traffic/publications/airspace_amendments/.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, 222 West 7th Avenue, Box 14, Anchorage, AK 99513-7587.

Persons interested in being placed on a mailing list for future NPRMs should contact the FAA's Office of Rulemaking, (202) 267-9677, for a copy of Advisory Circular No. 11-2A, Notice of Proposed Rulemaking Distribution System, which describes the application procedure.

The Proposal

The FAA is proposing an amendment to the Code of Federal Regulations (14 CFR Part 71), that proposes to revoke one Federal Airway V-328, and modify three Federal Airways, V-319, V-333 and V-480 in Alaska. The FAA is proposing this action to remove all airways off the Kipnuk, Very High Ommi-directional Range (VOR), Kipnuk, AK, in preparation for the VOR's eventual decommissioning from the National Airspace System (NAS). The portion of the Victor airways that are attached to the Kipnuk VOR are proposed to be removed. Two airways (V-319 and V-333) have the Kipnuk VOR supporting one segment of the airway, and will simply be shortened. One airway (V-480) would be modified to remove the Kipnuk from the description. However, three Area Navigation (RNAV) low altitude T routes will be revised in another airspace action to continue IFR service on routing along the same tracks as all four affected airways. The Kipnuk VOR decommissioning proposal was publicly advertised in non-rulemaking case numbers 02-AAL-31NR and 06-AAL-32NR. After receiving public comment, the FAA decided that keeping or moving the VOR was not feasible and that it should be decommissioned.

The justification addressed these areas; the VOR was only being used to support enroute airway operations, and village construction adjacent to the VOR's location in the Village of Kipnuk was encroaching on and degrading the VOR's signal in many quadrants. Additionally, the instrument approaches servicing the airport at Kipnuk are RNAV approaches, which do not utilize the Kipnuk VOR. This action would be timed to coincide with the planned navigation aid decommissioning for July 2, 2009. One Victor airway (V-480) that passes over the Village of Kipnuk, will remain between Bethel (BET), AK, and Saint Paul Island (SPY) Nondirectional Beacon, AK, if that airway passes the flight inspection. The T route revisions mentioned above will be announced in a separate airspace action, that will also coincide with the July 2, 2009, VOR decommissioning date. The intended effect of this proposal is to revise three Victor Airways and revoke one Victor Airway when the Kipnuk (IIK) VOR is decommissioned on July 2, 2009.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103. Under that section, the FAA is charged with prescribing regulations to assign the use of the airspace necessary to endure the safety of aircraft and the efficient use of airspace. This regulation is within the scope of that authority as it revokes and modifies VOR Federal Airways in Alaska.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9S, Airspace Designations and Reporting Points, signed October 3, 2008, and effective October 31, 2008, is to be amended as follows:

Paragraph 6010(b) Alaskan VOR Federal Airways.

* * * * *

V-319 [Amended]

From Yakutat, AK, via Johnstone Point, AK, INT Johnstone Point 286° and Anchorage, AK, 117° radials; Anchorage, AK; Sparrevohn, AK; Bethel, AK; Hooper Bay, AK; to Nanwak, AK NDB.

* * * * *

V-333 [Amended]

From Hooper Bay, AK; Nome, AK; to Shishmaref, AK.

* * * * *

V-328 [Removed]

* * * * *

V-480 [Amended]

From Mt. Moffett, AK, NDB, 20 AGL via St. Paul Island, AK, NDB, 20 AGL; Bethel, AK; McGrath, AK; Nenana, AK; to Fairbanks, AK.

* * * * *

Issued in Washington, DC, on November 25, 2008.
Edith V. Parish,
Manager, Airspace and Rules Group.

[FR Doc. E8-29239 Filed 12-9-08; 8:45 am]

BILLING CODE 4910-13-P